ENVIRONMENTAL PROTECTION AGENCY

[EPA-HQ-OLEM-2023-0244, FRL-11642-01-OMS]

Agency Information Collection Activities; Submission to the Office of Management and Budget for Review and Approval; Comment Request; Disposal of Coal Combustion Residuals From Electric Utilities (Renewal)

AGENCY: Environmental Protection Agency (EPA).

ACTION: Notice.

SUMMARY: The Environmental Protection Agency (EPA) has submitted an information collection request (ICR), Disposal of Coal Combustion Residuals from Electric Utilities, EPA ICR Number 2609.03, OMB Control Number 2050-0223 to the Office of Management and Budget (OMB) for review and approval in accordance with the Paperwork Reduction Act. This is a proposed extension of the ICR, which is currently approved through December 31, 2023. Public comments were previously requested via the Federal Register on May 1, 2023 during a 60-day comment period.

DATES: Additional comments may be submitted on or before January 29, 2024.

ADDRESSES: Submit your comments, referencing Docket ID No. EPA-HQ-OLEM-2023-0244 to EPA either online using www.regulations.gov (our preferred method) or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Peggy Vyas, Environmental Protection Agency, 1200 Pennsylvania Ave. NW, Washington, DC 20460; telephone number: 202-566-0453; vyas.peggy@epa.gov.

SUPPLEMENTARY INFORMATION: This is a proposed extension of the ICR, which is currently approved through December 31, 2023. An agency may not conduct or sponsor and a person is not required to respond to a collection of information unless it displays a currently valid OMB control number.

Public comments were previously requested via the Federal Register on May 1, 2023 during a 60-day comment period (88 FR 26537). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The EPA published a final rule to regulate the disposal of coal combustion residuals (CCR) from electric utilities as solid waste under RCRA Subtitle D (see 80 FR 21302, April 17, 2015). EPA established national minimum criteria for existing and new CCR landfills and CCR surface impoundments and all lateral expansions to include location restrictions, design and operating criteria, groundwater monitoring and corrective action, closure requirements and post-closure care, and recordkeeping, notification, and internet posting requirements. Since the final rule, several court decisions have required accelerated closure timelines for many units and forced closures for many units previously categorized as lined. In 2020, EPA published the “Hazardous and Solid Waste Management System: Disposal of CCR; A Holistic Approach to Closure Part B: Alternate Demonstration for Unlined Surface Impoundments Rule” which allows for units to receive variances for unlined surface impoundments (see 85 FR 72506, November 12, 2020). This ICR includes the voluntary action that states may take to obtain permit program approval. With this renewal, this ICR also incorporates the burden currently covered by OMB Control No. 2050-0053.

Form Numbers: None.

Respondents/affected entities: Entities potentially affected by this action are the private sector, as well as State, Local, or Tribal Governments.

Respondent's obligation to respond: Mandatory under section 4010(c) and 3001(d)(4) of the Resource Conservation and Recovery Act (RCRA) of 1976.

Estimated number of respondents: 744 (21 states and 723 new and existing facilities).

Frequency of response: On occasion.

Total estimated burden: 173,083 hours (per year). Burden is defined at 5 CFR 1320.03(b).

Total estimated cost: $26,168,233 per year, includes $15,511,426 annualized capital or operation & maintenance costs.

Changes in the Estimates: There is an increase of 170,904 hours in the total estimated respondent burden compared with the ICR currently approved by OMB. This increase is mainly a result of having incorporated the burden associated with the information collection requirements related to the disposal of CCR from existing ICR 2050-0053 into this ICR.

Courtney Kerwin,
Director, Information Engagement Division.

[FR Doc. 2023-28639 Filed 12-27-23; 8:45 am]

BILLING CODE 6560-50-P